DEPARTMENT OF HOUSING AND URBAN DEVELOPMENT

[Docket No. FR-4800-FA-9E]

Announcement of Funding Awards for Fiscal Year 2003; Tribal Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2003 Tribal Colleges and Universities Program. The purpose of this document is to announce the names and addresses of the award winners and the amount of the awards which are to be used to enable tribal colleges and universities to build, expand, renovate, and equip their own facilities, especially those that are available to and used by the larger community.

FOR FURTHER INFORMATION CONTACT: Susan Brunson, Office of University Partnerships, Department of Housing and Urban Development, Room 8106, 451 Seventh Street, SW., Washington, DC 20410, telephone (202) 708-3061, ext. 3852. To provide service for persons who are hearing or speech impaired, this number may be reached via TTY by Dialing the Federal Information Relay Service on 800-877-8339 or 202-708-1455 (Telephone number, other than “800” TTY numbers are not toll free).

SUPPLEMENTARY INFORMATION: The Tribal Colleges and Universities Program was enacted under section 107 of the CDBG appropriation for Fiscal Year 2003, as part of the “Veterans Administration, HUD and Independent Agencies Appropriations Act of 2003” and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program assist tribal colleges and universities to build, expand, renovate, and equip their own facilities. On April 25, 2003 (68 FR 21126), HUD published a Notice of Funding Availability (NOFA) announcing the availability of $3.1 million in Fiscal Year 2003 funds for the Tribal Colleges and Universities Program. The Department reviewed, evaluated and scored the applications received based on the criteria in the NOFA. As a result, HUD funded eight applications.

The Catalog Federal Domestic Assistance number for this program is 14.519.

In accordance with section 102(a) (4)(C) of the Department of Housing and Urban Development Reform Act of 1989 (103 Stat. 1987, 42 U.S.C. 3545), the Department is publishing details concerning the recipients of funding awards, as follows.

List of Awardees for Grant Assistance Under the FY 2003 Tribal Colleges and Universities Program Funding Competition, by Institution, Address, and Grant Amount

Rocky Mountains

1. Salish Kootenai College, Dr. Joseph McDonald, Salish Kootenai College, P.O. Box 117, Pablo, MT 59855. Grant: $384,552.

2. United Tribes Technical College, Russell Swagger, United Tribes Technical College, 3315 University Drive, Bismarck, ND, 58504. Grant: $400,000.

3. Sinte Gleska University, Dr. Georgia Hackett, Sinte Gleska University, Rosebud Sioux Reservation, 150 East 2nd Street, Mission, SD, 57555. Grant: $400,000.

4. Chief Dull Knife College, Bill Wertman, Chief Dull Knife College, P.O. Box 98, Lame Deer, MT, 59043. Grant: $400,000.

5. Turtle Mountain Community College, Dr. Gerald E. Monette, Turtle Mountain Community College, P.O. Box 340, Belcourt, ND 58136. Grant: $400,000.

6. Blackfeet Community College, Dr. Terrance E. Whitright, Blackfeet Community College, P.O. Box 819, Browing, MT, 59417. Grant: $390,500.

7. Oglala Lakota College, Dr. Thomas Shorthull, Oglala Lakota College, 490 Piya Wiconi Road, Kyle, SD, 57752. Grant: $400,000.

Midwest

8. Leech Lake Tribal College, Lenee Ross, Leech Lake Tribal College, 113 Balsam Avenue, NW, P.O. Box 180, Cass Lake, MT, 56633. Grant: $400,000.

Dated: October 17, 2003.
Darlene F. Williams,
General Deputy Assistant Secretary for Policy Development and Research.

[FR Doc. 03-27531 Filed 10-31-03; 8:45 am]

BILLING CODE 4210-62-P